NATIONAL AERONAUTICS AND SPACE ADMINISTRATION

[Document Number NASA-21-038; Docket Number-NASA-2021-0002]

Request for Information on Advancing Racial Equity and Support for Underserved Communities in NASA Programs, Contracts and Grants; Correction Process

AGENCY: National Aeronautics and Space Administration.

ACTION: Request for information; correction.

SUMMARY: The National Aeronautics and Space Administration (NASA) published a document in the Federal Register of June 15, 2021, concerning a request for information on the Agency's mission directorates' programs, procurements, grants, regulations and policies. The document contained incorrect dates.

FOR FURTHER INFORMATION CONTACT: Issues regarding submission or questions on this RFI can be sent to Dorice Kenely, Procurement Analyst, Office of Procurement at (202) 358-0443 or dorice.m.kenely@nasa.gov.

SUPPLEMENTARY INFORMATION: In the Federal Register of June 15, 2021, in FR Doc. 2021-12668, on page 31735, in the first column, correct the Dates caption to read:

DATES: Comments are requested on or before August 31, 2021. Early comments and responses to questions in the RFI are encouraged. Comments and responses received after this date will be considered for future advisory, communicative and outreach efforts to the extent practicable. A public meeting discussing the questions detailed in the RFI will be held on July 13, 2021, from 1:00 p.m. to 3:30 p.m.

On page 31738, in the third column, correct the second sentence of the last paragraph to read:

To that end, NASA will hold a public meeting on July 13, 2021, from 1:00 p.m. to 3:30 p.m.

Nanette Smith,
Team Lead, NASA Directives and Regulations.

[FR Doc. 2021-13725 Filed 6-25-21; 8:45 am]

BILLING CODE 7510-13-P